SMALL BUSINESS ADMINISTRATION

[Declaration of Disaster #3469]

State of Alaska; Amendment #1

In accordance with a notice received from the Federal Emergency Management Agency, dated December 11, 2002, the above numbered declaration is hereby amended to include Delta/Greely Regional Educational Attendance Area (REAA) and Fairbanks North Star Borough in the State of Alaska as a disaster area due to damages caused by an earthquake occurring on November 3, 2002 and continuing through November 10, 2002.

In addition, applications for economic injury loans from small businesses located in Yukon-Koyukuk REAA and Denali Borough in the State of Alaska may be filed until the specified date at the previously designated location. All other counties contiguous to the above named primary counties have been previously declared.

All other information remains the same, i.e., the deadline for filing applications for physical damage is January 17, 2003, and for economic injury the deadline is August 18, 2003.

(Catalog of Federal Domestic Assistance Program Nos. 59002 and 59008)
Dated: December 12, 2002.
Herbert L. Mitchell,
Associate Administrator for Disaster Assistance.

[FR Doc. 02-32254 Filed 12-20-02; 8:45 am]

BILLING CODE 8025-01-P